ENVIRONMENTAL PROTECTION AGENCY

[ER-FRL-6635-7]

Environmental Impact Statments; Notice of Availability

Responsible Agency: Office of Federal Activities, General Information (202) 564-7167 or http://www.epa.gov/compliance/nepa/.

Weekly receipt of Environmental Impact Statements filed December 2, 2002, through December 6, 2002.

Pursuant to 40 CFR 1506.9.

EIS No. 020498, Draft EIS, SFW, WA, Daybreak Mine Expansion and Habitat Enhancement Project, Habitat Conservation Plan, Issuance of a Multiple Species Permit for Incidental Take, Implementation, Clark County, WA , Comment Period Ends: February 21, 2003. Contact: Tim Romanski (360) 753-4371.

EIS No. 020499, Final EIS, BLM, OR, Coos County Natural Gas Transmission Pipeline, Construction, Operation and Maintenance, Proposed Natural Gas Pipeline from Roseburg to Coos Bay, Right-of-Way Grant, Coos Bay District, Coos County, OR , Wait Period Ends: January 13, 2003, Contact: Bob Gunther (541) 751-4295.

EIS No. 020500, Draft EIS, AFS, CA, Giant Sequoia National Monument Management Plan, Implementation, To Establish Management Direction for the Land and Resources, Sequoia National Forest, Fresno, Kern and Tulare Counties, CA , Comment Period Ends: March 13, 2003, Contact: Jim Whitfield (559) 784-1500.

EIS No. 020501, Final EIS, FHW, KS, U.S. 59 Highway Construction Improvements, Lawrence to Ottawa, Funding, NPDES Permit Issuance and Possible US Army COE Permit Issuance, Douglas and Franklin Counties, KS, Wait Period Ends: January 24, 2003, Contact: J. Michael Bowen (785) 267-7287.

EIS No. 020502, Draft EIS, MMS, AK, Cook Inlet Planning Area Oil and Gas Lease Sales 191 and 199, Outer Continental Shelf, Offshore Marine Environment, Cook Inlet, AK, Comment Period Ends: January 27, 2003, Contact: George Valiulis (703) 787-1662.

EIS No. 020503, Draft EIS, STB, TX, Bayport Loop New Rail Line, Construction and Operation, Finance Docket No. 34079, Houston, Harris County, TX , Comment Period Ends: January 27, 2003, Contact: Dana White (202) 565-1552. This document is available on the Internet at: http://www.stb.dot.gov.

EIS No. 020504, Draft EIS, AFS, ID, Gaylord North Timber Sale Project, Harvesting Timber, Council Ranger District, Payette National Forest, Adam County, ID, Comment Period Ends: January 27, 2003, Contact: Michael Hutchins (208) 253-0100.

EIS No. 020505, FINAL EIS, NAS, 00, Programmatic—Mars Exploration Rover-2003 (MER-2003) Project, Continuing the Long-Term Exploration of Mars, Implementation, Wait Period Ends: January 13, 2003, Contact: David Lavery (202) 358-4800.

EIS No. 020506, Final EIS, NRC, VA, Generic EIS—Surry Power Station, Unit 1 and 2, Supplement 6 to NUREG-1437, License Renewal of Nuclear Plants, COE Section 404 Permit and NPDES Permit, James River, VA, Wait Period Ends: January 13, 2003, Contact: Andrew Kugler (301) 415-2828.

EIS No. 020507, Final EIS, NRC, VA, Generic EIS—North Anna Power Station, Units 1 and 2, Supplement 7 to NUREG-1437, License Renewal, VA, Wait Period Ends: January 13, 2003, Contact: Andrew Kugler (301) 415-2828.

EIS No. 020508, Final EIS, DOE, KY, Kentucky Pioneer Integrated Gasification Combined Cycle Demonstration Project, Constructing and Operating a 540 megawatt-electric Plant, Clean Coal Technology Program, Clark County, KY, Wait Period Ends: January 13, 2003, Contact: Roy Spears (304) 285-5460.

Amended Notices

EIS No. 020421, Draft EIS, FHW, OR, Newberg-Dundee Transportation Improvement Project (TEA 21 Prog. #37), Proposal to Relieve Congestion on Ore. 99W through the Cities of Newberg and Dundee, Bypass Element Location (Tier 1), Yamhill County, OR , Comment Period Ends: December 16, 2002, Contact: Jim Cox (503) 986-3013. Revision of FR notice published on October 18, 2002: CEQ Comment Period Ending December 2, 2002 has been extended to December 16, 2002.

Dated: December 10, 2002.
Joseph C. Montgomery,
Director, NEPA Compliance Division, Office of Federal Activities.

[FR Doc. 02-31462 Filed 12-12-02; 8:45 am]

BILLING CODE 6560-50-P